DEPARTMENT OF HEALTH AND HUMAN SERVICES

Centers for Disease Control and Prevention

[30Day-24-1359]

Agency Forms Undergoing Paperwork Reduction Act Review

In accordance with the Paperwork Reduction Act of 1995, the Centers for Disease Control and Prevention (CDC) has submitted the information collection request titled “National Survey of Syringe Services Programs (NSSSP)”, to the Office of Management and Budget (OMB) for review and approval. CDC previously published a “Proposed Data Collection Submitted for Public Comment and Recommendations” notice on May 4, 2023, to obtain comments from the public and affected agencies. CDC received no public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The National Survey of Syringe Services Programs (NSSSP) (OMB Control No. 0920-1359, Exp. 12/31/2024)—Revision—National Center for HIV, Viral Hepatitis, STD, TB Prevention (NCHHSTP), Centers for Disease Control and Prevention (CDC).

Background and Brief Description

The primary purpose of the National Survey of Syringe Services Programs (NSSSP) is to strengthen and improve the ability of CDC and local and state partners to monitor and evaluate syringe services programs (SSPs) nationally, with the overall goal of supporting, sustaining, and improving SSPs nationwide and reducing infectious disease and other harms related to drug use. Findings from the 2020-2021 survey successfully characterized operational characteristics and services, funding resources, community relations, and key operational successes and challenges. The 2022 survey is currently being implemented. Revisions are being requested to address the increasing number of SSPs nationwide, the changing landscape of drug use nationally, additional SSP supplies and services provided, and ways in which SSPs are developing strategies to address the needs of people who use drugs (PWUD).

The project will include all SSPs that are listed in a publicly available directory of all known SSPs in the United States maintained by the North American Syringe Exchange Network (NASEN; https://nasen.org). The project will also include SSPs in NASEN's directory that do not wish to be publicly listed but have agreed to be contacted for research purposes, SSPs belonging to NASEN's buyers' club that are not part of the directory, respondents to prior RTI Arnold Ventures Surveys of SSPs that are not part of NASEN's directory, and other SSPs proactively identified through searching state health department websites, funding agencies, state and regional networks, regional conferences, partner organization networks or webinars and via social media. SSPs will be sent a letter of invitation to participate in a 35-minute program survey. Participating programs will have the option of completing the survey via different modalities to enhance feasibility and comfort in completing the survey, for example via the Research Electronic Data Capture (REDCap) or a similarly secure web-based application. Other modalities for survey administration will include a coordinated telephone or videoconferencing interview. SSPs will be sent reminder letters for a six-month data collection period. SSPs that do not respond to prior reminders will be sent one final reminder, and if the SSP still does not want to participate, one (optional) question on why the SSP did not complete the survey will be offered.

The survey will include questions on operational characteristics and services, funding resources, community relations, and key operational successes and challenges. Approximately 1000 SSPs will be able to participate in the survey. CDC anticipates that 20% of SSPs will decline to complete the survey, yielding 800 completed surveys per year. However, given that it is challenging to predict future response rates, we are requesting enough burden hours to allow 100% of SSPs to respond to the survey. CDC estimates that it will take 35 minutes to complete the survey, regardless of how the respondent chooses to complete it (i.e., self-administered online or interviewer-administered by phone or videoconferencing). CDC estimates that it will take SSPs that do not respond to the initial survey invitation two minutes to respond to the additional question.

CDC requests OMB approval for an estimated 616 annual burden hours. There are no other costs to respondents other than their time.

Estimated Annualized Burden Hours

Respondent | Form | Number of respondents | Number of responses per respondent | Average burden per response (in hours)
All participating SSPs | National Syringe Services Program Evaluation Survey | 1000 | 1 | 35/60
Non-responding SSPs | Non-Response Survey Item | 1000 | 1 | 2/60

Jeffrey M. Zirger,
Lead, Information Collection Review Office, Office of Public Health Ethics and Regulations, Office of Science, Centers for Disease Control and Prevention.

[FR Doc. 2023-22777 Filed 10-13-23; 8:45 am]

BILLING CODE 4163-18-P